DEPARTMENT OF TRANSPORTATION

Federal Aviation Administration

14 CFR Part 39

[Docket No. 2001-NE-20-AD]

RIN 2120-AA64

Airworthiness Directives; CFM International, S.A. CFM56-5 Series Turbofan Engines

AGENCY: Federal Aviation Administration, DOT.

ACTION: Notice of proposed rulemaking (NPRM).

SUMMARY: The Federal Aviation Administration (FAA) proposes to adopt a new airworthiness directive (AD) that is applicable to CFM International, S.A. (CMFI) CFM56 -5 series turbofan engines. This proposal would require replacement of the magnetic drain plug on certain part number (P/N) air turbine engine starters manufactured by Honeywell Engines & Systems. This proposal is prompted by three instances of uncontained air turbine engine starter failures, resulting in cowl damage. The actions specified by the proposed AD are intended to prevent uncontained failure of the starter and possible damage to the airplane.

DATES: Comments must be received by December 18, 2001.

ADDRESSES: Submit comments in triplicate to the Federal Aviation Administration (FAA), New England Region, Office of the Regional Counsel, Attention: Rules Docket No. 2001-NE-20-AD, 12 New England Executive Park, Burlington, MA 01803-5299. Comments may also be sent via the Internet using the following address: 9-ane-adcomment@faa.gov. Comments sent via the Internet must contain the docket number in the subject line. Comments may be inspected at this location, by appointment, between 8 a.m. and 4:30 p.m., Monday through Friday, except Federal holidays. The service information referenced in the proposed rule may be obtained from Honeywell Engines & Systems, Technical Publications Department, 111 South 34th Street, Phoenix, Arizona 85034; telephone (602) 365-5535, fax (602) 365-5577.This information may be examined, by appointment, at the FAA, New England Region, Office of the Regional Counsel, 12 New England Executive Park, Burlington, MA.

FOR FURTHER INFORMATION CONTACT: James Rosa, Aerospace Engineer, Engine Certification Office, FAA, Engine and Propeller Directorate, 12 New England Executive Park, Burlington, MA 01803-5299; telephone (781) 238-7152, fax (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NE-20-AD.” The postcard will be date stamped and returned to the commenter.

Availability of NPRM's

Any person may obtain a copy of this NPRM by submitting a request to the FAA, New England Region, Office of the Regional Counsel, Attention: Rules Docket No. 2001-NE-20-AD, 12 New England Executive Park, Burlington, MA 01803-5299.

Discussion

The FAA has received three reports of uncontained failures of air turbine starters that resulted in cowl damage. A number of air turbine starters have been damaged by running without oil. Investigations of the incidents have shown that over torque of the magnetic drain plug, P/N 572-510-9004, can result in the failure of the plug, which can allow oil to drain from the starter housing. Failure of the plug may not be immediately evident when it is over torqued. Replacement of the existing magnetic drain plug, P/N 572-510-9004, with a new redesigned magnetic drain plug, P/N 572-8510-9152, would reduce the potential for oil loss from the turbine starter if the plug is inadvertently over torqued, and would prevent uncontained failure of the starter due to loss of oil and possible damage to the airplane.

Manufacturer's Service Information

The FAA has reviewed and approved the technical contents of Honeywell Service Bulletin 3505582-80-1706, dated March 8, 2000, that describes procedures for replacing magnetic drain plugs, P/N 572-510-9004 and packings, P/N S9413-555, with new redesigned drain plugs P/N 572-8510-9152, and packings, P/N S3225-905; and re-marking the air turbine engine starter with a new P/N.

FAA's Determination of an Unsafe Condition and Proposed Actions

Since an unsafe condition has been identified that is likely to exist or develop on other CFMI CFM56-5 series turbofan engines of the same type design, with Honeywell Engines & Systems air turbine engine starters, P/N's 3505582-2, 3505582-3, 3505582-4, 3505582-12, 3505582-14, 3505582-15, 3505582-22, and 3505582-23, installed, the proposed AD would require the following actions within 500 cycles-in-service after the effective date of the proposed AD:

• Replacement of magnetic drain plug, P/N 572-510-9004, with a new redesigned magnetic drain plug, P/N 572-8510-9152.

• Replacement of packing, P/N 39413-555, with packing, P/N S3225-905.

• Re-marking of the air turbine engine starter after replacement of the magnetic drain plug.

Cost Analysis

The FAA estimates that about 512 engines installed on airplanes of U.S. registry would be affected by this proposed AD. The FAA also estimates that it would take approximately 0.1 work hours per engine to accomplish the proposed actions, and that the average labor rate is $60 per work hour. Required parts would cost approximately $787 per engine. Based on these figures, the total cost impact of the proposed AD on U.S. operators is estimated to be $406,016.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

CFM International, S.A.: Docket No. 2001-NE-20-AD.

Applicability

This airworthiness directive (AD) is applicable to CFM International, S.A. CFM56-5 series turbofan engines with Honeywell Engines & Systems air turbine engine starters, part numbers (P/N's) 3505582-2, 3505582-3, 3505582-4, 3505582-12, 3505582-14, 3505582-15, 3505582-22, and 3505582-23 installed. These engines are installed on, but not limited to Airbus Industries A318, A319, A320, A321 and A340 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

Compliance with this AD is required within 500 cycles-in-service after the effective date of this AD, unless already done.

To prevent uncontained failure of the starter due to loss of oil and possible damage to the airplane, do the following:

(a) Replace the magnetic drain plug, P/N 572-510-9004, with a new redesigned magnetic drain plug P/N 752-8510-9152; replace the packing P/N S3225-905, with packing P/N 39413-555, and remark the air turbine engine starter in accordance with paragraphs 2.A. through 2. C. of the Accomplishment Instructions of Honeywell Service Bulletin 3505582-80-1706, dated March 8, 2000.

(b) Replenish the air turbine starter.

Alternative Methods of Compliance

(c) An alternative method of compliance or adjustment of the compliance time that provides an acceptable level of safety may be used if approved by the Manager, Engine Certification Office. Operators shall submit their request through an appropriate FAA Principal Maintenance Inspector, who may add comments and then send it to the Manager, Engine Certification Office.

Note 2: Information concerning the existence of approved alternative methods of compliance with this airworthiness directive, if any, may be obtained from the Engine Certification Office.

Special Flight Permits

(d) Special flight permits may be issued in accordance §§ 21.197 and 21.199 of the Federal Aviation Regulations (14 CFR 21.197 and 21.199) to operate the aircraft to a location where the requirements of this AD can be accomplished.

Issued in Burlington, Massachusetts, on October 11, 2001.
Donald E. Plouffe,
Acting Manager, Engine and Propeller Directorate, Aircraft Certification Service.

[FR Doc. 01-26325 Filed 10-18-01; 8:45 am]

BILLING CODE 4910-13-U